DEPARTMENT OF THE TREASURY

Submission for OMB Review; Comment Request

June 20, 2002.

The Department of Treasury has submitted the following public information collection requirement(s) to OMB for review and clearance under the Paperwork Reduction Act of 1995, Public Law 104-13. Copies of the submission(s) may be obtained by calling the Treasury Bureau Clearance Officer listed. Comments regarding this information collection should be addressed to the OMB reviewer listed and to the Treasury Department Clearance Officer, Department of the Treasury, Room 2110, 1425 New York Avenue, NW., Washington, DC 20220.

DATES: Written comments should be received on or before July, 29, 2002 to be assured of consideration.

Internal Revenue Service (IRS)

OMB Number: 1545-1073.

Form Number: IRS Form 8801.

Type of Review: Extension.

Title: Credit For Prior Year Minimum Tax—Individuals, Estate and Trusts.

Description: Form 8801 is used by individuals, estates, and trusts to compute the minimum tax credit, if any, available from a tax year beginning after 1986 to be used in the current year or to be carried forward for use in a future year.

Respondents: Individuals or households.

Estimated Number of Respondents/Recordkeepers: 38,744.

Estimated Burden Hours Per Respondent/Recordkeeper:

Recordkeeping—2 hr., 4 min.

Learning about the law or the form—1 hr., 51 min.

Preparing the form—1 hr., 40 min.

Copying, assembling, and sending the form to the IRS—17 min.

Frequency of Response: Annually.

Estimated Total Reporting/Recordkeeping Burden: 34,463,513 hours.

OMB Number: 1545-1490.

Regulation Project Number: FI-28-96 Final.

Type of Review: Extension.

Title: Arbitrage Restrictions on Tax-Exempt Bonds.

Description: The recordkeeping requirements are necessary for the Service to determine that an issuer of tax-exempt bonds has not paid more than fair market value for non-purpose investments under section 148 of the Internal Revenue Code.

Respondents: Not-for-profit institutions, State, Local or Tribal Government.

Estimated Number of Recordkeepers: 1,400.

Estimated Burden Hours Per Recordkeeper: 1 hour.

Estimated Total Recordkeeping Burden: 1,425 hours.

Clearance Officer: Glenn Kirkland (202) 622-3428, Internal Revenue Service, Room 6411-03, 1111 Constitution Avenue, NW,Washington, DC 20224.

OMB Reviewer: Joseph F. Lackey, Jr. (202) 395-7316,Office of Management and Budget, Room 10235, New Executive Office Building,Washington, DC 20503

Lois K. Holland,
Departmental Reports, Management Officer.

[FR Doc. 02-16316 Filed 6-27-02; 8:45 am]

BILLING CODE 4830-01-P